FEDERAL COMMUNICATIONS COMMISSION

Notice of Public Information Collection(s) Being Submitted for Review to the Office of Management and Budget

April 4, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 11, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via Internet at Jasmeet_K._Seehra@omb.eop.gov and to Judith-B.Herman@fcc.gov, Federal Communications Commission, Room 1-B441, 445 12th Street, SW., DC 20554 or an e-mail to PRA@fcc.gov. If you would like to obtain or view a copy of this information collection after the 60-day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-XXXX.

Title: Consummation of Assignments and Transfers of Control of Station Authorization.

Form No.: N/A.

Type of Review: New collection.

Respondents: Business or other for-profit.

Number of Respondents: 586 respondents; 586 responses.

Estimated Time Per Response: 1 hour.

Frequency of Response: On occasion reporting requirement.

Obligation to Respond: Required to obtain or retain benefits.

Total Annual Burden: 586 hours.

Total Annual Cost: N/A.

Privacy Act Impact Assessment: N/A.

Nature and Extent of Confidentiality: There is no need for confidentiality pertaining to the information collection requirements in this collection.

Needs and Uses: The Commission will submit this new information collection to the OMB after this 60-day comment period to obtain the full three-year clearance from them. The Federal Communications Commission (“Commission”) is requesting that the Office of Management and Budget (OMB) approve the establishment of a new collection for consummation of assignments and transfers of control of station authorization. In addition, the Commission is requesting the OMB's approval of mandatory electronic filing of consummations of assignments and transfers of control of licenses for all telecommunications services.

A consummation is a party's notification to the Commission that a transaction (assignment or transfer of control of station authorization) has been completed within a designated period of time. A consummation is applicable to all international telecommunications services, including International High Frequency (IHF), Section 214 Applications (ITC), Satellite Space Stations (SAT), Submarine Cable Landing Licenses (SCL) and Satellite Earth Station (SES) stations.

Currently, applicants send multiple letters to various offices within the Commission for each file number and call sign that are part of the consummation. The new, proposed consummation module will eliminate the applicant's requirement to notify the Commission by letter with the details of the consummation. With this new collection, the applicant will complete an on-line form (consummation module) in the Commission's electronic International Bureau Filing System (“IBFS”). After the applicant enters the FCC Registration Number (FRN) in the form, the system will generate a list of file numbers and call signs that are related to the FRN. The applicant can select the file numbers and call signs that are part of the consummation. The consummation module: (1) Saves time for the applicants and the Commission staff because the information is readily accessible for viewing and processing 24 hours a day/7 days a week, (2) eliminates the applicants completion by paper and mailing of letters, and (3) expedites the Commission staff's receipt of consummations in a timely manner.

The Commission has authority for this information collection pursuant to 47 CFR 1.767, 25.119, 63.24(e), 73.3540 and 73.3541. Without this collection of information, the Commission would not have critical information such as a change in a controlling interest in the ownership of the licensee. Furthermore, the Commission would not have the authority to review assignments and transfers of control of satellite licenses to determine whether the initial license was obtained in good faith with the intent to construct a satellite system.

Federal Communications Commission.
Marlene H. Dortch,
Secretary.

[FR Doc. E7-6936 Filed 4-11-07; 8:45 am]

BILLING CODE 6712-01-P